DEPARTMENT OF COMMERCE

National Oceanic and Atmospheric Administration

Science Advisory Board; Notice of Open Meeting

AGENCY: Office of Oceanic and Atmospheric Research, NOAA, DOC.

ACTION: Notice of open meeting.

SUMMARY: The Science Advisory Board (SAB) was established by a Decision Memorandum dated September 25, 1997, and is the only Federal Advisory Committee with responsibility to advise the Under Secretary of Commerce for Oceans and Atmosphere on long- and short-range strategies for research, education, and application of science to resource management. SAB activities and advice provide necessary input to ensure that National Oceanic and Atmospheric Administration (NOAA) science programs are of the highest quality and provide optimal support to resource management.

DATES: The meeting will be held Tuesday, March 20 2001, from 10:00 a.m. to 5:00 p.m., Wednesday, March 21, 2001, from 8:30 a.m. to 5:00 p.m., and Thursday, March 22, from 8:30 a.m. to 11:30 a.m.

ADDRESSES: The meeting on Tuesday, March 20 and Thursday, March 22 will be held at the Department of Commerce Herbert C. Hoover Building, 14th and Constitution Avenues, Washington, DC. On Wednesday, March 21, the meeting will be held at the NOAA Science Center, 1305 East West Highway, Silver Spring, Maryland.

Status: The meeting will be open to public participation with two 30-minute time periods set aside for direct verbal comments or questions from the public. The SAB expects that public statements presented at its meetings will not be repetitive of previously submitted verbal or written statements. In general, each individual or group making a verbal presentation will be limited to a total time of five (5) minutes. Written comments (at least 35 copies) should be received in the SAB Executive Director's Office by March 12, 2001, in order to provide sufficient time for SAB review. Written comments received by the SAB Executive Director after March 12 will be distributed to the SAB, but may not be reviewed prior to the meeting date. Approximately thirty (30) seats will be available for the public including five (5) seats reserved for the media. Seats will be available on a first-come, first-served basis.

Matters to be Considered: The meeting will include the following topics: (1) National Undersea Research Program Strategic Plan, (2) Reviews of the Office of Global Program's September 2000 Panel Meeting, the Report of the Panel Review of the National Environmental Satellite and Data Information Service's (NESDIS) Office of Research and Applications and the Report of the Panel on Strategies for Climate Monitoring, (3) the National Science Foundation's Geosciences Programs, (4) the National Sea Grant College Program, (5) Public Input Sessions with SAB discussion, (6) SAB Sub-Committee and Working Group Reports, (7) NOAA's Long-term Climate Monitoring Council, and (8) the U.S. Weather Research Program.

FOR FURTHER INFORMATION CONTACT: Dr. Michael Uhart, Executive Director, Science Advisory Board, NOAA, Rm. 11142, 1315 East-West Highway, Silver Spring, Maryland 20910. (Phone: 301-713-9121, Fax: 301-713-3515, E-mail: Michael.Uhart@noaa.gov); or visit the NOAA SAB website a http://www.sab.noaa.gov.

Dated: March 5, 2001.
Louisa Koch,
Deputy Assistant Administrator, Office of Oceanic and Atmospheric Research.

[FR Doc. 01-5871 Filed 3-8-01; 8:45 am]

BILLING CODE 3510-KD-M